DEPARTMENT OF VETERANS AFFAIRS

[OMB Control No. 2900-0885]

Agency Information Collection Activity: Veteran Rapid Retraining Assistance Program (VRRAP) Approval

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each revision of a previously approved collection, and allow 60 days for public comment in response to the notice.

DATES: Written comments and recommendations on the proposed collection of information should be received on or before October 26, 2021.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0885” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0885” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 117-2 Section 8006 (HR 1319).

Title: Veteran Rapid Retraining Assistance Program (VRRAP) Approval.

OMB Control Number: 2900-0885.

Type of Review: Revision of a previously approved collection.

Abstract: VA Form 22-1990S will allow Veterans to apply for VRRAP benefits. VA Form 22-10271 will allow current GI Bill educational institutions and VET TEC training providers to volunteer to participate in the VRRAP program by acknowledging that they understand and agree to the unique payment structure of VRRAP. The information collection will also allow them to list the programs they seek to have participate in VRRAP. VA employees will utilize the information provided by the applicant and the institutions, along with information residing in existing VA Information Technology systems, in order to make a determination as to whether or not the applicant meets the definition of an eligible Veteran and whether or not the program qualifies as specified in statute. Also, the information provided will be utilized to pay the institutions as agreed.

An agency may not conduct or sponsor, and a person is not required to respond to a collection of information unless it displays a currently valid OMB control number. The Federal Register Notice with a 60-day comment period soliciting comments on this collection of information was published at 86 FR 115 on June 17, 2021, page 32330.

Affected Public: Individuals and households.

Estimated Annual Burden: 3,250 hours.

Estimated Average Burden per Respondent: 25 minutes.

Frequency of Response: Once.

Estimated Number of Respondents: 18,750.

By direction of the Secretary.
Maribel Aponte,
VA PRA Clearance Officer, Office of Enterprise and Integration/Data Governance Analytics, Department of Veterans Affairs.

[FR Doc. 2021-18473 Filed 8-26-21; 8:45 am]

BILLING CODE 8320-01-P